DEPARTMENT OF COMMERCE

International Trade Administration

[A-533-843]

Certain Lined Paper Products From India: Amended Final Results of Antidumping Duty Administrative Review; 2020-2021

AGENCY: Enforcement and Compliance, International Trade Administration, Department of Commerce.

SUMMARY: The U.S. Department of Commerce (Commerce) is amending the final results of the administrative review of the antidumping duty order on certain lined paper products from India to correct one ministerial error. The period of review (POR) is September 1, 2020, through August 31, 2021.

DATES: Applicable May 4, 2023.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On April 12, 2023, the Commerce published its Final Results of the 2020-2021 administrative review of the antidumping duty order on certain lined paper products from India.¹ On April 11, 2023, Commerce disclosed its calculations to interested parties and provided interested parties with the opportunity to submit ministerial error comments.² On April 20, 2023, the Association of American School Paper Suppliers and its individual members (the petitioners) timely submitted ministerial error comments regarding Commerce's Final Results.³ Commerce is amending its Final Results to correct a ministerial error alleged by the petitioners.

¹ See Certain Lined Paper Products from India: Final Results of Antidumping Duty Administrative Review and Final Determination of No Shipments; 2020-2021, 88 FR 21971 (April 12, 2023) (Final Results).

² See Memoranda, “Deadline for Ministerial Error Comments for the Final Results,” dated April 11, 2023; and “Extension of Deadline for Ministerial Error Comments,” dated April 14, 2023.

³ See Petitioners' Letter, “Ministerial Error Comments,” dated April 20, 2023.

Legal Framework

A ministerial error, as defined in section 751(h) of the Tariff Act of 1930, as amended (the Act), includes “errors in addition, subtraction, or other arithmetic function, clerical errors resulting from inaccurate copying, duplication, or the like, and any other type of unintentional error which the {Commerce} considers ministerial.” ⁴ With respect to final results of administrative reviews, 19 CFR 351.224(e) provides that Commerce “will analyze any comments received and, if appropriate, correct any ministerial error by amending . . . the final results of review . . . .”

⁴ See 19 CFR 351.224(f).

Ministerial Errors

In the final results of the review, Commerce made an inadvertent error within the meaning of section 751(h) of the Act and 19 CFR 351.224(f) with respect to standardizing the variable length for the product characteristic variables in Cellpage Ventures Private Limited's (Cellpage) sales and cost databases. Accordingly, Commerce determines that, in accordance with section 751(h) of the Act and 19 CFR 351.224(f), it made a ministerial error in the Final Results.

For a complete description and analysis of the specific inadvertent error, and the petitioners' ministerial error allegation, see the accompanying Ministerial Error Allegation Memorandum.⁵ The Ministerial Error Allegation Memorandum is a public document and is on file electronically via Enforcement and Compliance's Antidumping and Countervailing Duty Centralized Electronic Service System (ACCESS). ACCESS is available to registered users at https://access.trade.gov.

⁵ See Memorandum, “Ministerial Error Allegation,” dated concurrently with this notice (Ministerial Error Allegation Memorandum).

Pursuant to 19 CFR 351.224(e), Commerce is amending the Final Results to reflect the correction of this ministerial error in the calculation of the weighted-average dumping margin assigned to Cellpage in the Final Results, which changes from 2.63 percent to 3.21 percent.⁶ Furthermore, we are revising the review-specific, weighted-average dumping margin applicable to the companies not selected for individual examination in this administrative review, which is based on Cellpage's weighted-average dumping margin.⁷

⁶ Id.; see also Final Results, 88 FR at 21972.

⁷ We assigned Cellpage's rate to the non-selected companies because it was the only individually calculated weighted-average dumping margin, which is not zero, de minimis, or determined entirely on the basis of facts available. See Final Results, 88 FR at 21971.

In addition to the ministerial error described above, we are also including SGM Paper Products among the companies not selected for individual examination in these amended final results. SGM Paper Products was inadvertently excluded from the list of companies not selected for individual examination in the Final Results.⁸

⁸ See Certain Lined Paper Products from India: Preliminary Results of Antidumping Duty Administrative Review; Rescission of Administrative Review, in Part; and Preliminary Determination of No Shipments; 2020-2021, 87 FR 60650 at 60652 (October 6, 2022); see also Final Results, 88 FR at 21972.

Amended Final Results of Review

As a result of correcting this ministerial error, Commerce determines that, for the period September 1, 2020, through August 31, 2021, the following weighted-average dumping margins exist:

⁹ The weighted-average dumping margin for Navneet Education Ltd remains unchanged from the Final Results. See Final Results, 88 FR at 21972.

Producer or exporter | Weighted- average dumping margin (percent)
Cellpage Ventures Private Limited | 3.21
Navneet Education Ltd ⁹ | 0.00
Goldenpalm Manufacturers PVT Limited | 3.21
ITC Limited-Education and Stationery Products Business ¹⁰ | 3.21
Lotus Global Private Limited | 3.21
Pioneer Stationery Pvt. Ltd | 3.21
PP Bafna Ventures Private Limited | 3.21
SGM Paper Products | 3.21
Magic International Pvt. Ltd ¹¹ | 215.93
Marisa International ¹² | 215.93

Disclosure

¹⁰ The correct name of the company is ITC Limited-Education and Stationery Products Business. Commerce has previously incorrectly referred to this company as ITC Limited-Education and Stationary Products Business.

¹¹ The weighted-average dumping margin for Magic International Pvt. Ltd remains unchanged from the Final Results. See Final Results, 88 FR at 21972.

¹² The weighted-average dumping margin for Marisa International remains unchanged from the Final Results. See Final Results, 88 FR at 21972.

We intend to disclose the calculations performed for these amended final results to parties in this review within five days of the date of publication of this notice in the Federal Register, in accordance with 19 CFR 351.224(b).

Assessment Rate

Pursuant to section 751(a)(2)(C) of the Act and 19 CFR 351.212(b)(1), Commerce has determined, and U.S. Customs and Border Protection (CBP) shall assess, antidumping duties on all appropriate entries of subject merchandise in accordance with these amended final results of the administrative review.

Pursuant to 19 CFR 351.212(b)(1), where the respondent reported the entered value of its U.S. sales, we calculated importer-specific ad valorem duty assessment rates based on the ratio of the total amount of dumping calculated for the examined sales to the total entered value of the sales for which entered value was reported. Where the respondent did not report entered value, we calculated the entered value in order to calculate the assessment rate. Where either the respondent's weighted-average dumping margin is zero or de minimis within the meaning of 19 CFR 351.106(c)(1), or an importer-specific rate is zero or de minimis, we will instruct CBP to liquidate the appropriate entries without regard to antidumping duties.

For the companies that were not selected for individual examination, we will assign an assessment rate based on the cash deposit rates calculated for the mandatory respondents in this review, i.e., Cellpage and Navneet Education Ltd, excluding any rates that are zero, de minimis, or determined entirely based on facts available. For the non-selected respondents listed above, the amended final results of this review shall be the basis for the assessment of antidumping duties on entries of merchandise covered by the amended final results of this review and for future deposits of estimated duties, where applicable.¹³

¹³ See section 751(a)(2)(C) of the Act.

Commerce's “automatic assessment” will apply to entries of subject merchandise during the POR produced by companies included in these amended final results of review for which the individually-examined companies did not know that the merchandise they sold to the intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective retroactively for all shipments of subject merchandise that entered, or were withdrawn from warehouse, for consumption on or after April 12, 2023, the date of publication of the Final Results of this administrative review, as provided for by section 751(a)(2)(C) of the Act: (1) the cash deposit rate for the companies listed above will be equal to the weighted-average dumping margin established in these amended final results of review; (2) for producers or exporters not covered in this review but covered in a prior segment of the proceeding, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 3.91 percent established in the less-than-fair-value investigation.¹⁴ These cash deposit requirements, when imposed, shall remain in effect until further notice.

¹⁴ See Notice of Amended Final Determination of Sales at Less Than Fair Value: Certain Lined Paper Products from the People's Republic of China; Notice of Antidumping Duty Orders: Certain Lined Paper Products from India, Indonesia and the People's Republic of China); and Notice of Countervailing Duty Orders: Certain Lined Paper Products from India and Indonesia, 71 FR 56949 (September 28, 2006).

Notification to Importers

This notice also serves as a final reminder to importers of their responsibility under 19 CFR 351.402(f)(2) to file a certificate regarding the reimbursement of antidumping and/or countervailing duties prior to liquidation of the relevant entries during this POR. Failure to comply with this requirement could result in the Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the disposition of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

The amended final results and notice are issued and published in accordance with sections 751(h) and 777(i) of the Act and 19 CFR 351.224(e).

Dated: April 28, 2023.
Lisa W. Wang,
Assistant Secretary for Enforcement and Compliance.

[FR Doc. 2023-09510 Filed 5-3-23; 8:45 am]

BILLING CODE 3510-DS-P